DEPARTMENT OF TRANSPORTATION

Federal Aviation Administration

14 CFR Part 39

[Docket No. 2002-NM-154-AD; Amendment 39-12871; AD 2002-17-05]

RIN 2120-AA64

Airworthiness Directives; Boeing Model 727 Series Airplanes

AGENCY: Federal Aviation Administration, DOT.

ACTION: Final rule; request for comments.

SUMMARY: This amendment adopts a new airworthiness directive (AD) that is applicable to all Boeing Model 727 series airplanes. This action requires a one-time inspection to find discrepancies of the wire bundles and hydraulic tubing in the aft stairwell area, and corrective action, if necessary. This action is necessary to find and fix such discrepancies, which could result in electrical arcing between the wiring and hydraulic tubing, and consequent fire and damage to adjacent structure. This action is intended to address the identified unsafe condition.

DATES: Effective September 16, 2002.

The incorporation by reference of certain publications listed in the regulations is approved by the Director of the Federal Register as of September 16, 2002.

Comments for inclusion in the Rules Docket must be received on or before October 29, 2002.

ADDRESSES: Submit comments in triplicate to the Federal Aviation Administration (FAA), Transport Airplane Directorate, ANM-114, Attention: Rules Docket No. 2002-NM-154-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-154-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Technical Information: Kenneth Frey, Aerospace Engineer, Systems and Equipment Branch, ANM-130S, FAA, Seattle Aircraft Certification Office, 1601 Lind Avenue, SW., Renton, Washington 98055-4056; telephone (425) 227-2673; fax (425) 227-1181.

Other Information: Sandi Carli, Airworthiness Directive Technical Editor/Writer; telephone (425) 687-4243, fax (425) 687-4248. Questions or comments may also be sent via the Internet using the following address: sandi.carli@faa.gov. Questions or comments sent via the Internet as attached electronic files must be formatted in Microsoft.

SUPPLEMENTARY INFORMATION: The FAA received a report that, during a through-flight check shortly after the landing of a Boeing Model 727-200F series airplane, a crew member on board the airplane saw smoke in the left aft stairwell area. Evidence of overheating (molten aluminum) and fire damage was found between body stations 1203 and 1223, in addition to on the upper and lower torque boxes outboard and above the standby hydraulic reservoir. Investigation revealed the fire was caused by an electrical wire bundle chafing and subsequently arcing against a hydraulic system “A” case drain return line tube. The wire bundle provides electrical power to the standby hydraulic pump. A hole was burned in the aft side of the tube and in the back of a bend on a hydraulic reservoir pressurization tube located four feet above the drain return line tube. Such discrepancies of the wire bundle, if not found and fixed, could result in electrical arcing between the wiring and hydraulic tubing, and consequent fire and damage to adjacent structure.

Similar Models

All Boeing Model 727 series airplanes have the same configuration of the aft stairwell area as that on the affected Model 727-200F series airplane. Therefore, all of these models may be subject to the same unsafe condition.

Explanation of Relevant Service Information

The FAA has reviewed and approved Boeing Alert Service Bulletin 727-29A0068, dated May 30, 2002. The service bulletin describes procedures for a one-time inspection to find discrepancies (including inadequate clearance between the wire bundles and hydraulic tubing and/or structure, missing clamps, chafing, fire damage to structure, or damage to wire bundles) of the wire bundles and hydraulic tubing (wire bundles W344 and W338, and hydraulic system “A” case drain line tube, part number 65-17844-146) in the aft stairwell area, and corrective action, if necessary. The corrective action includes repositioning of the wire bundles and clamps to ensure a minimum clearance of 0.25 inch between the wire bundles and hydraulic tubing and/or structure and installing clamps; repairing or replacing any damaged wiring and tubing; inspecting the adjacent structural area for fire damage, and repairing any damage.

The service bulletin refers to Boeing Standard Wiring Practices Manuals 20-10-11, 20-10-12, and 20-10-13 for repair or replacement of any damaged wiring. The service bulletin also refers to the 727 Airplane Maintenance Manual for repair or replacement of any damaged hydraulic tubing or structure. Accomplishment of the actions specified in the service bulletin is intended to adequately address the identified unsafe condition.

Explanation of the Requirements of the Rule

Since an unsafe condition has been identified that is likely to exist or develop on other airplanes of the same type design, this AD requires accomplishment of the actions specified in the service bulletin described previously, except as discussed below.

Differences Between Service Information and This AD

The service bulletin refers only to a “visual inspection” for discrepancies of the wire bundles and hydraulic tubing. We have determined that the procedures in the service bulletin should be described as a “general visual inspection.” Note 2 has been included in this AD to define this type of inspection.

The service bulletin recommends doing the inspection “at the earliest maintenance opportunity when facilities and manpower are available.” However, we have determined that such a compliance time will not ensure that operators address the unsafe condition in a timely manner. In developing an appropriate compliance time for this AD, we considered not only the manufacturer's recommendation, but the degree of urgency associated with addressing the subject unsafe condition, the significant impact on scheduling and cost for the large fleet of airplanes which must be inspected, and adequate time and availability of facilities for safe and accurate accomplishment of the inspection. In light of all of these factors, we find a 120-day compliance time for doing the inspection to be warranted in that it represents an appropriate interval of time allowable for affected airplanes to continue to operate without compromising safety.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-154-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-17-05 Boeing: Amendment 39-12871. Docket 2002-NM-154-AD.

Applicability: All Model 727 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To find and fix discrepancies of the wire bundles and hydraulic tubing in the aft stairwell area, which could result in electrical arcing between the wiring and hydraulic tubing and consequent fire and damage to adjacent structure, accomplish the following:

General Visual Inspection/Corrective Action

(a) Within 120 days after the effective date of this AD: Do a general visual inspection to find discrepancies (including inadequate clearance between the wire bundles and hydraulic tubing and/or structure, missing clamps, chafing, fire damage to structure, or damage to wire bundles) of the wire bundles and hydraulic tubing in the aft stairwell area, per the Work Instructions of Boeing Alert Service Bulletin 727-29A0068, dated May 30, 2002.

(1) If no discrepancy is found, no further action is required by this AD.

(2) If any discrepancy is found, before further flight, fix the discrepancy (includes repositioning of the wire bundles and clamps to ensure a minimum clearance of 0.25 inch between the wire bundles and hydraulic tubing and/or structure and installing clamps; repairing or replacing any damaged wiring and tubing; if evidence of fire damage, inspecting adjacent structural area for damage, and repairing any damage), per Figure 1 of the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(c) Special flight permits may be issued in accordance with §§ 21.197 and 21.199 of the Federal Aviation Regulations (14 CFR 21.197 and 21.199) to operate the airplane to a location where the requirements of this AD can be accomplished.

Incorporation by Reference

(d) The actions shall be done in accordance with Boeing Alert Service Bulletin 727-29A0068, dated May 30, 2002. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on September 16, 2002.

Issued in Renton, Washington, on August 22, 2002.
Vi L. Lipski,
Manager, Transport Airplane Directorate, Aircraft Certification Service.

[FR Doc. 02-22007 Filed 8-29-02; 8:45 am]

BILLING CODE 4910-13-U